SECURITIES AND EXCHANGE COMMISSION

Sunshine Act Meetings

Notice is hereby given, pursuant to the provisions of the Government in the Sunshine Act, Pub. L. 94-409, that the Securities and Exchange Commission will hold the following meetings during the week of October 31, 2005:

An Open Meeting will be held on Monday, October 31, 2005 at 10 a.m., in the Auditorium, Room LL-002 and Closed Meetings will be held on Monday, October 31, 2005 at 11 a.m. and Thursday, November 3 at 2 p.m.

Commissioners, Counsel to the Commissioners, the Secretary to the Commission, and recording secretaries will attend the Closed Meetings. Certain staff members who have an interest in the matters may also be present.

The General Counsel of the Commission, or his designee, has certified that, in his opinion, one or more of the exemptions set forth in 5 U.S.C. 552b(c)(5), (6), (7), (9)(B), and (10) and 17 CFR 200.402(a)(5), (6), (7), 9(ii) and (10) permit consideration of the scheduled matters at the Closed Meeting.

Commissioner Nazareth, as duty officer, voted to consider the items listed for the closed meetings in closed session and that no earlier notice thereof was possible.

The subject matter of the Open Meeting scheduled for Monday, October 31, 2005 will be:

The Commission will hear oral argument on an appeal by Dolphin & Bradbury, Inc. (“D&B”) and its part-owner and chairman, Robert J. Bradbury (together, “Respondents”), as well as the Division of Enforcement, from the decision of an administrative law judge. The law judge found that certain materials used by Respondents to market to investors long-term, non-taxable municipal bonds that were issued to finance the purchase of an office building and parking lot complex were materially misleading. D&B served as underwriter of the bond issue. The law judge found that, through their conduct in connection with the bond issue, Respondents willfully violated Section 17(a) of the Securities Act of 1933, Section 10(b) of the Securities Exchange Act of 1934 and Rule 10b5 thereunder, and Municipal Securities Rulemaking Board Rule G-17, and that D&B willfully violated, and Bradbury willfully aided and abetted and caused D&B's violation of, Exchange Act Section 15B(c)(1). The law judge ordered D&B and Bradbury to cease and desist from committing or causing violations of the provisions they were found to have violated; jointly and severally to disgorge $482,562.50, plus prejudgment interest; and to pay civil penalties of $400,000 and $82,000 respectively. The law judge rejected the Division's request that he create a fund for the benefit of investors into which the disgorgement and civil penalties would be paid, which is the only aspect of the decision the Division has appealed.

Among the issues likely to be argued are whether Respondents violated antifraud provisions in offering and selling the bonds, and, if so, whether and to what extent sanctions should be imposed on Respondents.

The subject matter of the Closed Meeting scheduled for Monday, October 31, 2005 will be:

Post-argument discussion.

The subject matters of the Closed Meeting scheduled for Thursday, November 3, 2005 will be:

Formal orders of private investigations;

Institution and settlement of injunctive actions;

Institution and settlement of administrative proceedings of an enforcement nature; and

Amicus consideration.

At times, changes in Commission priorities require alterations in the scheduling of meeting items.

For further information and to ascertain what, if any, matters have been added, deleted or postponed, please contact: The Office of the Secretary at (202) 551-5400.

Dated: October 24, 2005.
Jonathan G. Katz,
Secretary.

[FR Doc. 05-21518 Filed 10-25-05; 11:25 am]

BILLING CODE 8010-01-P